DEPARTMENT OF LABOR

Office of the Secretary

Combating Child Trafficking in Togo Through Education

AGENCY: Bureau of International Labor Affairs, Department of Labor.

ACTION: Notice of availability of funds and solicitation for cooperative agreement applications (SGA 02-03).

This notice contains all of the necessary information and forms needed to apply for cooperative agreement funding.

SUMMARY: The U.S. Department of Labor (USDOL), Bureau of International Labor Affairs (ILAB), will award up to US$2 million to an organization or organizations to develop and implement formal, non-formal and vocational education programs as a means to combat the trafficking of children in Togo. The education programs will complement existing USDOL and other agencies' programs in Togo that combat child trafficking and promote education. ILAB is seeking applications from qualified organizations for the purpose of implementing a program to promote school attendance and provide educational opportunities for victims of child trafficking and children at risk of being trafficked. The program will include components in raising awareness of trafficking and of the importance of education; strengthening transitional centers that receive children returned from trafficking; promoting children's academic integration into transitional and formal basic and vocational education programs; supporting preventive measures to increase school retention of children vulnerable to trafficking; strengthening institutions and policies to reduce trafficking and promote school attendance; and promoting the sustainability of program interventions.

DATES: The closing date for receipt of applications is June 3, 2002. Applications must be received by 4:45 p.m. (Eastern Time) at the address below. No exceptions to the mailing, delivery, and hand-delivery conditions set forth in this notice will be granted. Applications that do not meet the conditions set forth in this notice will not be honored. Telegram, telefacsimile (FAX), and e-mail applications will not be honored.

ADDRESSES: Application forms will not be mailed. They are published in this Federal Register Notice, and in the Federal Register which may be obtained from your nearest U.S. Government office or public library or online at http://www.nara.gov/fedreg/nfpubs.html.

Applications must be delivered to: U.S. Department of Labor, Procurement Services Center, 200 Constitution Avenue, NW., Room N-5416, Attention: Lisa Harvey, Reference: SGA 02-03, Washington, DC 20210. Applications sent by e-mail, telegram, or facsimile (FAX) will not be accepted. Applications sent by other delivery services, such as Federal Express, UPS, etc., will be accepted; however, the applicant bears the responsibility for timely submission.

FOR FURTHER INFORMATION CONTACT: Lisa Harvey. E-mail address: havey-lisa@dol.gov. All applicants are advised that U.S. mail delivery in the Washington, DC area has been slow and erratic due to the recent concerns involving anthrax contamination. All applicants must take this into consideration when preparing to meet the application deadline. It is recommended that you confirm receipt of your application by contacting Lisa Harvey, U.S. Department of Labor, Procurement Services Center, telephone (202) 693-4570 (this is not a toll-free number), prior to the closing deadline. All inquiries should reference SGA 02-03.

SUPPLEMENTARY INFORMATION: The U.S. Department of Labor (USDOL), Bureau of International Labor Affairs (ILAB), announces the availability of funds to be granted by cooperative agreement to one or more qualifying organizations for the purpose of promoting school attendance and combating child trafficking in Togo. The cooperative agreement will be actively managed by ILAB's International Child Labor Program (ICLP), to assure achievement of the stated goals. Applicants are encouraged to be creative in proposing cost-effective interventions that will have a demonstrable impact in promoting school attendance by Togolese children who have been victims of trafficking or at risk of being trafficked.

I. Background and Program Scope

A. USDOL Support to the Global Elimination of Child Labor/Child Trafficking and Expanding Access to Education

In 2001, press reports from West Africa brought the issue of child trafficking to the world's attention by detailing the voyage of the ship Etireno, which was reputedly carrying children being trafficked between countries for purposes of employment. The International Labor Organization (ILO) estimates that there are 250 million working children between the ages of 5 and 14 in developing countries, about half of whom work full-time. Children who are trafficked are among the most exploited, and qualify as victims of the worst forms of child labor equivalent to slavery under ILO Convention 182 on the Worst Forms of Child Labor. Trafficked children who work full-time are generally unable to attend school. Furthermore, children who are trafficked have often dropped out of school early or have never attended school at all.

The existence of child labor and the trafficking of children for exploitative employment have many implications for a country. In source communities from which children are trafficked, sending a child to be employed far from home influences others to do likewise. The negative effects of trafficking include poorly educated children with low skills who return to their communities traumatized, in ill health (e.g., HIV/AIDS, sexually transmitted diseases, drug addiction), and susceptible to premature death. It is often challenging to reintegrate these children into communities that are already resource-poor and overburdened with social problems. Contrary to the belief that migration of children is a solution to poverty, it often reproduces it and leads to other social problems.

It is important to undertake education initiatives for child laborers and their at-risk siblings, and particularly for children who are victims of or susceptible to trafficking, because their lack of schooling hinders their personal development, as well as that of a modern workforce, overall labor market reform, poverty reduction and social progress. Education is a key investment that has been linked to the acceleration of a nation's productivity and socioeconomic development. Poorly educated workers tend to earn less, live in poverty, and may in turn send their own children to work at a young age. Consequently, it is important to keep children in educational settings instead of in workplaces. Further, keeping children in school protects them from the abuses of trafficking.

Since 1995 and as mandated by the U.S. Congress, USDOL has supported a worldwide technical assistance program implemented by the International Labor Organization's International Program on the Elimination of Child Labor (ILO/IPEC). USDOL contributions to date to ILO/IPEC have amounted to over $112 million, making the United States the program's largest donor and the leader in global efforts to combat child labor. USDOL has supported ILO/IPEC projects that target child trafficking in various countries, including in West and Central Africa, as described in Appendix D.

In USDOL's FY 2001 appropriations, in addition to US $45 million in funds earmarked for ILO/IPEC, the Department received US $37 million for a Child Labor Education Initiative that will fund programs that increase access to quality, basic education in areas with a high incidence of abusive and exploitative child labor. The cooperative agreement(s) awarded under this solicitation will be funded by this new initiative.

USDOL's Child Labor Education Initiative nurtures the development, health, safety and enhanced future employability of children around the world by increasing access to basic education for children removed from child labor or at risk of entering it. Child labor elimination will depend in part on improving access to, quality of, and relevance of education. Without improving educational quality and relevance, children withdrawn from child labor may not have viable alternatives and could resort to other forms of hazardous work.

The Child Labor Education Initiative has the following four goals:

1. Raise awareness of the importance of education for all children and mobilize a wide array of actors to improve and expand education infrastructures;

2. Strengthen formal and transitional education systems that encourage working children and those at risk of working to attend school;

3. Strengthen national institutions and policies on education and child labor; and

4. Ensure the long-term sustainability of these efforts.

B. Child Labor and Trafficking in Togo

Child labor and trafficking in Togo can be understood in terms of the social, political and economic developments that have taken place in Togo in the last decade. In the early 1990s, Togo experienced a period of political turmoil and economic contraction. According to the World Bank, per capita income is estimated to have fallen by 28% between 1990 and 1993. In 1993, government revenues fell to a mere 10% of GDP, causing a sharp decline in the provision of social services.

Further, political instability resulting from the controversial 1993 presidential elections led to a sharp fall in the flow of foreign aid to the country. In response to the crises, Togo launched a comprehensive adjustment program in 1994 that contributed to reversing the economic deterioration. However, a disputed presidential election and an energy crisis in 1998 contributed to another sharp economic decline. Since then, the political, social and economic situation has continued to deteriorate, and poverty has been on the rise.

One result of the increase in poverty has been an escalation in the incidence of child labor and trafficking. Adding to this issue is the inadequacy of Togo's education system, which underwent a sharp deterioration in the 1990s.

Estimates of the magnitude of child labor and trafficking in Togo vary significantly (from 140,000 to 200,000 for child labor), and key stakeholders agree that there is a need for better data to inform policies and programs at both national and regional levels. A non-governmental organization (NGO) working in Togo on trafficking estimates that the majority of trafficked children are between 9 and 13 years of age, and that 70 percent of them are girls. Although trafficked children originate in all parts of Togo, many children come from the Central and Maritime regions, where they may initially work before going overseas. General consensus among actors is that the primary trafficking destinations for Togolese children are Gabon for girls (who often work in the markets or as domestic servants) and Nigeria for boys (who engage in agricultural work). Although precise figures are lacking, anecdotal accounts indicate that girls are often sexually exploited while they are abroad, and that some girls return pregnant or with sexually transmitted diseases including HIV/AIDS. The Sokodé regional office of the Ministry of Social Affairs also estimates that approximately 30 percent of boys become addicted to drugs while working abroad, and that some may become intermediaries for dealers in order to continue their habit after they return to Togo. If verified to exist, this work would be a worst form of child labor under ILO Convention 182.

In addition to being sent overseas to work, many Togolese children are also trafficked within Togo. Children migrate from rural to urban areas, primarily to Lomé or the Maritime region, to work in houses, in the market, or in the cotton industry. Girls are more visible in the streets and markets, while boys often work in unpaid apprenticeships; all work long hours without adequate rest. In some parts of the country, bonded labor occurs in the traditional practice known as trokosi, whereby young girls are given to voodoo priests as compensation for offenses allegedly committed, or debts incurred, by a member of the girl's family. The U.S. Embassy is currently financing a study on this practice because little is known about what takes place in trokosi, although it is reported that these girls are not allowed to attend school.

Although the causes of child labor and trafficking in specific areas of Togo are not yet systematically documented, a number of contributing factors have been identified by NGOs and government organizations. Among these are: poverty; large numbers of children under 15 in a family; cultural practices (including polygamy); parental illiteracy; belonging to certain ethnic groups; and lack of knowledge of child rights. Girls are sometimes sent to work to earn money for their dowry or for fear that they may become pregnant if sent to school. Alternatively, a girl may seek out opportunities to go abroad to work in order to escape an early or forced marriage.

In some regions, land tenure also appears to have contributed to an increasing incidence of child labor and trafficking. In Vogan, for example, the state phosphate company appropriated land, leaving families landless. It is reported that the number of children sent to work has increased in order to compensate for lost income. It is also reported that children and their parents often view education as unimportant. Since the labor market is not well developed, uneducated people often enter into petty commerce as a lifetime occupation.

A number of organizations are working on programs to combat child trafficking in Togo. These programs address some of the causes of child labor/trafficking and barriers to education, but are insufficient due to their small scale. Summaries of these programs are presented in Appendix E of this solicitation.

C. Gaps in the Prevention of Trafficking and Reintegration of Children Into Education Settings in Togo

In spite of the number of programs already being undertaken in Togo to combat trafficking, analysis by USDOL has identified a number of gaps that hamper efforts to prevent trafficking and provide access to education for child victims of trafficking. These gaps form the core of the problem that the scope of work of this solicitation aims to address.

1. Lack of Data and of Information Sharing

Institutions working on child trafficking in Togo lack adequate capacity to gather and share data, and analyze the correlation between data on education and child labor/trafficking. For example, as noted above in Section I.B, there are varied estimates on how many children are being trafficked or involved in child labor in Togo. The identification of the numbers of children entering or vulnerable to trafficking and child labor is linked to the number of children in an age cohort, and the number of children not in school. School dropout is linked to a number of risk factors that can be identified and then quantified. But getting precise figures on all of these elements is difficult due to the lack of universal birth registry of children, the lack of figures on drop out rates, and still embryonic attempts to categorize the causes of trafficking and drop out (risk factors) at particular locations. There is also limited knowledge of the barriers to education in specific locations, and of the educational attainment and needs of trafficked children.

2. Limited Coordination and Weak Partnerships Among Institutional Actors

As reported by many actors in Togo, there is inadequate national coordination to address child trafficking and reintegrate children into their communities of origin. Despite strong commitment to combating child trafficking, there is little broad-based collaborative action around trafficking and education, and there is competition for leadership among different actors in both the public sector and civil society, and between the public sector and civil society.

Through IPEC and World Bank-funded projects with the Ministries of Labor and Social Affairs, there have been attempts to begin coordinating direct action programs at the regional and prefecture levels. Preliminary national and regional action plans have been developed in consultation with different partners and can serve as a base for building partnerships to improve and expand the education infrastructure for children who are returned victims of trafficking or at risk of being trafficked. It is important that USDOL's Child Labor Education Initiative enhance collaboration between both of these ministries, and strengthen their relationship with the Ministry of Education and other ministries to address the education and supporting needs of the target children.

3. Challenges to raising awareness

Although several organizations have already conducted awareness raising campaigns on the realities and consequences of trafficking among some audiences, for example traditional and political leaders, it is not certain that the message has been passed onto other stakeholders including parents and children. Further, there are powerful counter-forces to awareness-raising against trafficking in Togo including family poverty; the belief that children will be better off when they leave home because they will have access to education or will gain a skill; and the notion that children leaving the family will earn money for a dowry, a business, or the family. Also prevalent in Togo is the belief that trafficked children who return with no money, ill, or who have faced other unfortunate events have just been unlucky. These misfortunes are not seen to be the norm and therefore have little bearing on decisions of whether children should leave or stay.

4. High Drop Out Rates For Younger Children, Particularly For Girls, Who Are Highly Vulnerable to Trafficking

Although precise data on dropout rates are not available, the Ministry of Education in Togo has observed that rates of school retention, particularly for girls, are progressively lower at each higher grade, beginning as early as second grade. Work is one of the major reasons why children drop out of school. Parents of boys sometimes think that the apprenticeships or work abroad offer a better chance for acquiring marketable skills, while girls' parents perceive that their daughters do not need an education since they will marry, and need to collect money for their dowry by working, either in Lomé, or abroad in Gabon.

5. Lack of Continuity Between Transitional and Permanent Schooling

Children who return to Togo after being trafficked generally end up at a transition center where they receive a number of services, including health care and some schooling, prior to being reunited with their parents. However, there is often a gap between the temporary schooling at the transition centers, and the schooling they receive after returning to their place of origin. Without continuity, there is a risk of losing the benefits of the education received at the transition center. Further, teachers receiving the children at the place of origin may be inadequately prepared to support the successful reintegration of children into school. To aid in their successful reintegration, teachers at both transitional and permanent schools need training to deal with the psychosocial and special academic needs of children victims of trafficking, and to communicate and coordinate on the special needs of specific children.

6. Lack of Schooling Alternatives For Older Children

Whereas younger children in Togo can be more successfully integrated into the formal school system, it is more difficult for older children to return to school. A number of trafficked children may never have gone to school, and older children are not likely to enroll at lower grade levels in formal schools with much younger children. Without alternative educational opportunities that address older children's special needs, they are likely to remain illiterate, or semi-literate, and not be able to access better employment and income opportunities.

7. Limited Follow-Up of Reintegrated Children

Related to the lack of continuity between transitional and formal schooling is the limited follow-up of reintegrated children. In Togo, because of lack of resources, public and private sector organizations that reintegrate the children generally do not follow up on them after about one year, and less in some cases. After being returned, some of the children may not attend school and may even be trafficked again. Although there are now attempts to build community-based monitoring systems to address this problem, they are limited in scope and reach.

8. Insufficient Community Capacity To Address Child Trafficking Through Education

Although Togo has a strong tradition of community mobilization and using community structures for development in education and other sectors, communities have not been heavily involved in addressing the problem of child trafficking. Parent and Teacher Associations (PTAs) are stronger in Togo than in many other African countries, and the government supports community schools. Vis-à-vis education, UNICEF and other organizations have been working to develop self-help groups, and to use community structures (village committees) to develop village action plans which can subsequently be funded. Both Ministry of Social Affairs and Ministry of Labor projects funded through the World Bank and IPEC are aiming to work with community structures. However, such efforts are relatively nascent. Furthermore, only a small number of communities can currently be targeted due to the projects' limited resources.

9. Gaps in Policy and Enforcement

There are gaps in education and child labor policies that relate to combating child trafficking. Togo has a compulsory school attendance policy to age 15, but Togo's Labor Code (Article 114) allows children to begin working at age 14. In addition to inconsistencies in domestic laws, there are also discrepancies between domestic policies and international agreements.

Another policy gap in Togo is the fact that trafficking of children is not currently considered a crime. The Ministry of Social Affairs has expressed a desire to develop case law and precedents, and to develop the capacity of Togolese lawyers to sue for damages and obtain compensation for trafficked children. This money would then be used for the child's education, and possibly for a savings account to benefit the child. The issue of policy implementation of this idea is complex because it involves various facets of domestic and international law, and the ability to enforce them.

In addition to gaps in policy, there is inadequate enforcement of existing laws. Even if there were consistency among domestic laws, and between domestic policies and international legal commitments, their lax enforcement in Togo remains a serious problem.

10. Challenges to Achieving Sustainability

Sustainability is ultimately linked to project impact and the ability of individuals, communities and a nation to ensure that the activities or changes implemented by a project endure. A project's impacts are manifested at the level of individuals, organizations, and systems. For individual children and their families this would mean a positive and enduring change in their life conditions as a result of project interventions. At the level of organizations and systems, sustained impact would involve continued commitment and ability (including financial commitment and policy change) to continue the actions generated by the project as long as they are still needed, including enforcement of existing policies that target trafficking, child labor and school attendance.

In Togo, there are a number of factors that affect the ability of a project to achieve sustainable impact at these multiple levels. At the level of individual families and children, these include family poverty and the choices made vis-à-vis work versus school for children. Sustainability will thus be tied to the ability to provide income alternatives to the family to replace income from child labor, and a change in attitudes that places education rather than child labor at the forefront of decision-making.

Sustainability of organizational commitment to the issue is affected by the lack of resources. Inadequate government funding has led to lack of means of transport for monitoring, long delays in paying teachers and government cadres, and the inability to build schools and provide related school infrastructure and maintenance. Low donor funding is also a limiting factor.

At the system level, sustainability will be adversely affected by inadequate policies and laws to protect children and to allow them access to education, as well as by the lax enforcement of existing policies and laws. Insufficiency of resources at the national level to promote education and combat trafficking also poses a threat to sustainability.

II. Authority

ILAB is authorized to award and administer this program by the Consolidated Appropriations Act, 2001, Public Law 106-554, 114 Stat. 2763A-10 (2000).

III. Application Process

A. Eligible Applicants

Any commercial, international, or non-profit organization capable of successfully developing and implementing education programs for child victims of trafficking or children at risk is eligible to apply for this cooperative agreement. Partnerships of more than one organization are also eligible, and applicants are strongly encouraged to work with organizations already undertaking projects in Togo, including local NGOs (see Appendix E). The capability of an applicant or applicants to perform necessary aspects of this solicitation will be determined under Section V.B Rating Criteria and Selection.

Please note that eligible cooperative agreement applicants must not be classified under the Internal Revenue Code as a 501(c)(4) entity. See 26 U.S.C. 501(c)(4). According to Section 18 of the Lobbying Disclosure Act of 1995, an organization, as described in Section 501(c)(4) of the Internal Revenue Code of 1986, that engages in lobbying activities will not be eligible for the receipt of federal funds constituting an award, grant, or loan.

B. Submission of Applications

One (1) ink-signed original, complete application in English plus two (2) copies of the application must be submitted to the U.S. Department of Labor, Procurement Services Center, 200 Constitution Avenue, NW, Room N-5416, Washington, DC 20210, not later than 4:45 p.m. ET, June 3, 2002. Accompanying documents should also be in English. To aid with review of applications, USDOL also encourages applicants to submit two additional paper copies of the application (five total). Applicants who do not provide additional copies will not be penalized.

The application must consist of two (2) separate parts. Part I of the application must contain the Standard Form (SF) 424, “Application for Federal Assistance” (Appendix A) (The entry on SF 424 for the Catalog of Federal Domestic Assistance Number (CFDA) is 17.700) and sections A-F of the Budget Information Form SF 424A (Appendix B). Part II must contain a technical application that demonstrates capabilities in accordance with the Statement of Work and the selection criteria.

To be considered responsive to this solicitation, the application must consist of the above-mentioned separate sections not to exceed 25 single-sided (8½″ x 11″), double-spaced, 10 to 12 pitch typed pages. Any applications that do not conform to these standards may be deemed non-responsive to this solicitation and may not be evaluated. Standard forms and attachments are not included in the page limit. Each application must include a table of contents and an abstract summarizing the application in not more than two (2) pages. These pages are also not included in the page limits.

Upon completion of negotiations, the individual signing the SF 424 on behalf of the applicant must be authorized to bind the applicant.

C. Acceptable Methods of Submission

The grant application package must be received at the designated place by the date and time specified or it will not be considered. Any application received at the Office of Procurement Services after 4:45 pm EST, June 3, 2002 will not be considered unless it is received before the award is made and:

1. it was sent by registered or certified mail not later than the fifth calendar day before June 3, 2002;

2. it is determined by the Government that the late receipt was due solely to mishandling by the Government after receipt at the U.S. Department of Labor at the address indicated; or

3. it was sent by U.S. Postal Service Express Mail Next Day Service-Post Office to Addressee, not later than 5 pm at the place of mailing two (2) working days, excluding weekends and Federal holidays, prior to June 3, 2002.

The only acceptable evidence to establish the date of mailing of a late application sent by registered or certified mail is the U.S. Postal Service postmark on the envelope or wrapper and on the original receipt from the U.S. Postal Service. If the postmark is not legible, an application received after the above closing time and date shall be processed as if mailed late. “Postmark” means a printed, stamped or otherwise placed impression (not a postage meter machine impression) that is readily identifiable without further action as having been applied and affixed by an employee of the U.S. Postal Service on the date of mailing. Therefore applicants should request that the postal clerk place a legible hand cancellation “bull's-eye” postmark on both the receipt and the envelope or wrapper.

The only acceptable evidence to establish the date of mailing of a late application sent by U.S. Postal Service Express Mail Next Day Service-Post Office to Addressee is the date entered by the Post Office receiving clerk on the “Express Mail Next Day Service-Post Office to Addressee” label and the postmark on the envelope or wrapper and on the original receipt from the U.S. Postal Service. “Postmark” has the same meaning as defined above. Therefore, applicants should request that the postal clerk place a legible hand cancellation “bull's-eye” postmark on both the receipt and the envelope or wrapper.

The only acceptable evidence to establish the time of receipt at the U.S. Department of Labor is the date/time stamp of the Procurement Services Center on the application wrapper or other documentary evidence or receipt maintained by that office.

Applications may be sent by e-mail, telegram, or facsimile (FAX) will not be accepted. Applications sent by other delivery services, such as Federal Express, UPS, etc., will be accepted, however, the applicant bears the responsibility for timely submission. Because of delay in the receipt of mail in the Washington, D.C. area, it is recommended that you confirm receipt of your application by contacting Lisa Harvey, U.S. Department of Labor, Procurement Services Center, telephone (202) 693-4570 (this is not a toll-free number), prior to the closing deadline. All inquiries should reference SGA 02-03.

D. Funding Levels

Up to US$2 million is available for this program. Although USDOL will award only one cooperative agreement, a partnership of more than one organization may apply to implement the program.

E. Program Duration

The duration of the program(s) funded by this SGA is four (4) years. The start date of program activities will be negotiated upon awarding of the cooperative agreement (hereafter referred to as “grant”).

IV. Requirements

A. Statement of Work

In developing their proposals, applicants should take into account the gaps and challenges to preventing trafficking, promoting school attendance, and reintegrating trafficked children into educational settings outlined in Section I.C above. Applicants should explain how the services provided under this grant will address the gaps outlined in Section I.C. They should also consider the implementing environment in Togo described in Section I.B and Appendix E, and the lessons learned from other experiences in trafficking projects available as background documents on-line at (http://www.ilo.org/public/english/standards/ipec/publ/childtraf/trafficking.pdf), or in hard copy upon request (see Appendix F).

The applicants should also propose approaches and strategies to meet the education needs of the identified target beneficiaries in Togo—children at risk of being trafficked or child victims of trafficking. The approaches should support the goals of USDOL's Child Labor Education Initiative (EI): (1) Raise awareness of the importance of education for all children and mobilize a wide array of actors to improve and expand education infrastructures; (2) Strengthen formal and transitional education systems that encourage working children and those at risk of working to attend school; (3) Strengthen national institutions and policies on education and child labor, and (4) Ensure the long-term sustainability of these efforts.

The cooperative agreement awardee (hereafter referred to as “Grantee”) is expected to work cooperatively with stakeholders in the country, including the Ministry of Education, Ministry of Labor, Ministry of Social Affairs, Ministry of Technical Education and Professional Training, NGOs, national steering/advisory committees on child labor and education, community and faith-based organizations, and trafficked and at-risk children and their families. In order to avoid duplication, enhance collaboration, expand impact, and develop synergies, the Grantee should coordinate project activities with those already being undertaken for victims of trafficking with USDOL funding by the ILO/IPEC, and by the World Bank with the Ministry of Social Affairs. The Ministry of Social Affairs currently works with 15 communities in the Central and Maritime regions. Although project resources may be used to conduct jointly funded awareness raising campaigns, training, and information gathering, the bulk of project resources should be directly devoted to expanding and improving education and support programs for target children. Project key personnel should work closely with the ILO/IPEC's National Program Manager, and where warranted with staff of the Ministries of Labor, Education, Social Affairs and Technical Education in developing project interventions. Project activities should also be coordinated with those funded by other donors, such as the World Bank. Finally, the Grantee should assure that youth with disabilities have physical and programmatic access to programs operated with the use of USDOL funds.

Below is a listing of specific requirements to guide applicants in the development of responses to this solicitation.

Overall, the applicant should propose creative and innovative approaches to improve access, quality and relevance of education for Togolese children up to age 18 who have been victims of trafficking, or who are at risk of being trafficked. The geographical target area will be the Central and Maritime regions of Togo. The exact number of communities and children to benefit from this Child Labor Education Initiative Project will be identified by the Grantee in collaboration with the ministries of Labor, Social Affairs and Education in the first three months of the project, and will form the basis of the first year's work plan.

The applicant should also work closely with local authorities and educators to create a coherent model of education interventions to provide education alternatives to children at risk of trafficking or victims of trafficking. In the process of implementation it is expected that capacity of local delivery mechanisms for education to this target group will be strengthened. Although new and innovative solutions are strongly encouraged, at a minimum, the applicant is expected to propose approaches that address the following areas of implementation:

1. Awareness Raising and Mobilization of Actors To Promote School Attendance and Reduce Child Trafficking

a. Assist local organizations to develop a multi-tiered communications strategy with audience segmentation and targeted messages that raise awareness and influence opinions and behavior of multiple actors including parents and children, educators, community leaders, and others to promote school attendance and reduce trafficking. The strategy should complement rather than duplicate previous awareness raising campaigns, and where possible coordinate with future ones planned by other projects so as to reduce duplication and mixed messages.

b. On the basis of the communications strategy, conduct awareness raising campaigns to targeted audiences to promote school attendance and reduce the lure of trafficking.

c. Use communications strategy to mobilize actors to propose solutions to reduce trafficking and promote school attendance.

d. Through awareness raising and related activities, promote the development of working and task-oriented multi-sectoral partnerships at the community, regional, and national levels to combat trafficking, promote school attendance, and improve education infrastructure in areas of high incidence of child trafficking.

2. Strengthen Education Systems To Promote School Attendance, Reduce Trafficking, and Reintegrate Trafficked Children Into Education Settings

Strengthening of education systems to address project goals will involve at least the following components: (1) Identification of target communities and baseline data collection; (2) Prevention of dropout of younger children at risk of being trafficked through improved quality and relevance of education; and (3) Reintegration of older trafficking victims into educational settings.

Targeting at-risk communities:

The Grantee should work with the Ministries of Education, Labor, and Social Affairs and other relevant partners to:

a. Identify the number and location of target communities for EI project interventions.

b. In target communities, gather and correlate baseline socioeconomic and education data on (1) children returned from trafficking; and (2) children at risk of being trafficked to identify trends and patterns in these data.

c. Assess educational infrastructure and quality in target communities, and identify specific gaps to be filled by the project.

Prevention

The Grantee should work with the Ministry of Education and other relevant partners to:

a. Identify risk factors for formal school dropout, causes of drop out, and drop out trends in areas of high trafficking.

b. Develop a strategy to increase retention and promotion to next grade for children at risk of being trafficked, particularly girls.

c. Reduce drop out rates for at-risk children through improved primary school quality and enrichment programs in areas of high trafficking, or scholarship programs.

Reintegration of Trafficked Children

The Grantee should work with the Ministry of Education and Ministry of Social Affairs, Ministry of Technical Education and other relevant partners to:

a. Strengthen the links between education programs at transition centers and permanent schools, including through increased capacity to assess and share psychosocial and education needs of child victims of trafficking.

b. Support development/expansion of bridge programs that allow eventual reintegration of younger children (up to age 15) victims of trafficking into the formal school system or vocational training. These programs should include innovative approaches to improve teaching materials, pedagogy, learning assessment, and monitoring of results. The programs can include psychosocial counseling and guidance, recreational activities, tutoring, and life skills training.

c. Develop innovative vocational education and skills training programs for older children (ages 15-18) who are either victims of trafficking or at risk of being trafficked that allow them access to improved future employment opportunities. These programs can include psychosocial counseling and guidance, tutoring, and life skills training.

Funds provided by this grant in support of this component may be used for the construction/repair/expansion of education or boarding facilities to benefit target children, and for the provision of related pedagogical and training materials, if local communities can leverage complementary resources in support of proposed education facilities and programs.

3. Strengthen institutions and policies to promote school attendance, reduce trafficking, and reintegrate trafficked children into educational settings

The objective of this component is to promote approaches to create accountability mechanisms within the government to document the problem and monitor (in partnership with civil society organizations) the progress in reaching target communities both in the prevention of child trafficking through school retention, and reintegration of children into educational settings after being returned from trafficking. The development and expansion of multi-sectoral partnerships to reduce trafficking and support the education of target children is critical. Specifically the project should:

a. Improve Ministry of Education capacity to collect data on correlations between school attendance and performance, drop out and trafficking. The result of strengthened capacity would be the ability to collect, process, analyze, map and correlate data between trafficking and educational attainment, with the objective of informed education and child labor (anti-trafficking) policies. Data should be collected and processed in collaboration with the ministries of Labor and Social Affairs.

b. Strengthen the capacity of key civil society organizations and communities to monitor and follow up on the education of children at risk of being trafficked or returned from trafficking, to complement government monitoring.

c. Enhance inter-institutional coordination capacity, collaboration and working partnerships between the Ministries of Labor, Social Affairs and Education, and Technical Education concerning the education of children who have been victims of trafficking, or who are at high risk of being trafficked.

d. Enhance partnerships between the public sector and civil society on the issue of education of children who have been victims of trafficking, or who are at high risk of being trafficked.

e. Improve coordination and implementation of existing policies and laws on school attendance and child labor in target areas of project intervention.

f. Promote legislation/litigation to compensate victims of trafficking through payment by traffickers and employers for their social reintegration and education.

In implementing these three components, the Grantee will design approaches that promote sustainability of impact at the individual, organization and system-wide level as described above in Section I.C above. As one means to promote sustainability, the Grantee can leverage alternative income generation/credit programs for opportunities for families of children benefiting from this project, and/or for older children who complete skills and/or vocational training.

In addition to meeting these requirements, the Grantee will be expected to monitor the implementation of the program, report to USDOL on a quarterly basis, and evaluate program results. The grant(s) will include funds to plan, implement and evaluate programs and activities, conduct various studies pertinent to project implementation, and to establish education baselines to measure program results. The Grantee must develop annual work plans that will be approved by USDOL. Corresponding indicators of performance will also be developed by the Grantee and approved by USDOL.

B. Deliverables

Unless otherwise indicated, the Grantee(s) must submit copies of all required reports to ILAB by the specified due dates. Other documents, such as project design documents, are to be submitted by mutually agreed upon deadlines.

1. Project Designs. A project document in a format to be established by ILAB in the logical framework format will be used, and will include a background/justification section, project strategy (objectives, outputs, activities, indicators, means of verification), project implementation timetable and project budget. The project design will be drawn from the proposal written in response to this solicitation. The document will also include sections that address coordination strategies, project management and sustainability. The time for delivery of this document will be negotiated at the time of the award.

2. Technical and Financial Progress Reports. The Grantee must furnish a typed technical report to ILAB on a quarterly basis by 31 March, 30 June, 30 September, and 31 December. The Grantee must also furnish a separate financial report to ILAB on the quarterly basis mentioned above. The format for the technical progress report will be the format developed by ILAB and must contain the following information:

a. For each project objective, an accurate account of activities carried out under that objective during the reporting period;

b. An accounting of staff and any subcontractor hours expended;

c. An accounting of travel performed under the cooperative agreement during the reporting period, including purpose of trip, persons or organizations contacted, and benefits derived;

d. A description of current problems that may impede performance, and proposed corrective action;

e. Future actions planned in support of each project objective;

f. Aggregate amount of costs incurred during the reporting period; and

g. Progress on indicators (to be reported annually).

3. Annual Work Plan. An annual work plan will be developed within three months of project award and approved by ILAB to ensure coordination with other relevant social actors in Togo. Subsequent annual work plans will be delivered no later than one year after the previous one.

4. Monitoring and Evaluation Plan. A monitoring and evaluation plan will be developed, in collaboration with ILAB, including beginning and ending dates for the project, planned and actual dates for mid-term review, and final end of project evaluations. The monitoring plan will be prepared after completion of baseline surveys, including revision of indicators provided in project document, targets, and means of verification.

5. Evaluation Reports. The Grantee and the Grant Officer's Technical Representative (GOTR) will determine on a case-by-case basis whether mid-term evaluations will be conducted by an internal or external evaluation team. All final evaluations will be external in nature. The Grantee must respond to any comments and recommendations resulting from the review of the mid-term report.

C. Production of Deliverables

1. Materials Prepared Under the Cooperative Agreement. The Grantee must submit to ILAB all media-related and educational materials developed by it or its sub-contractors before they are reproduced, published, or used. ILAB considers that education materials include brochures, pamphlets, videotapes, slide-tape shows, curricula, and any other training materials used in the program. ILAB will review materials for technical accuracy. The Grantee must obtain prior approval from the Grant Officer for all materials developed or purchased under this cooperative agreement. All materials produced by the Grantee must be provided to ILAB in a digital format for possible publication by ILAB.

2. Acknowledgment of USDOL Funding. In all circumstances the following must be displayed on printed materials:

“Preparation of this item was funded by the United States Department of Labor under Cooperative Agreement No. E-9-X-X-XXXX.”

When issuing statements, press releases, requests for proposals, bid solicitations, and other documents describing projects or programs funded in whole or in part with Federal money, all Grantees receiving Federal funds, including State and local governments and recipients of Federal research grants, must clearly state:

a. The percentage of the total costs of the program or project which will be financed with Federal money;

b. The dollar amount of Federal funds for the project or program; and

c. The percentage and dollar amount of the total costs of the project or program that will be financed by non-governmental sources.

In consultation with ILAB, USDOL's role will be identified as one of the following:

a. The USDOL logo may be applied to USDOL-funded material prepared for world-wide distribution, including posters, videos, pamphlets, research documents, national survey results, impact evaluations, best practice reports, and other publications of global interest. The Grantee will consult with USDOL on whether the logo should be used on any such items prior to final draft or final preparation for distribution. In no event will the USDOL logo be placed on any item until USDOL has given the Grantee written permission to use the logo, after obtaining appropriate internal USDOL approval for use of the logo on the item.

b. If ILAB determines that the use of the logo is not appropriate and does not give written permission, the following notice must appear on the document:

This document does not necessarily reflect the views or policies of the U.S. Department of Labor, nor does mention of trade names, commercial products, or organizations imply endorsement by the U.S. Government.

D. Administrative Requirements

1. General. Grantee organizations are subject to applicable Federal laws (including provisions of appropriations law) and the applicable Office of Management and Budget (OMB) Circulars. Determinations of allowable costs will be made in accordance with the applicable Federal cost principles. The cooperative agreement(s) awarded under this SGA are subject to the following administrative standards and provisions, if applicable:

29 CFR Part 36—Federal Standards for Nondiscrimination on the Basis of Sex in Education Programs or Activities Receiving Federal Financial Assistance.

29 CFR Part 93—New Restrictions on Lobbying.

29 CFR Part 95—Uniform Administrative Requirements for Grants and Agreements with Institutions of Higher Education, Hospitals and Other Non-Profit Organizations, and with Commercial Organizations, Foreign Governments, Organizations Under the Jurisdiction of Foreign Governments and International Organizations.

29 CFR Part 96—Federal Standards for Audit of Federally Funded Grants, Contracts and Agreements.

29 CFR Part 98—Federal Standards for Governmentwide Debarment and Suspension (Nonprocurement) and Governmentwide Requirements for Drug-Free Workplace (Grants).

29 CFR Part 99—Federal Standards for Audits of States, Local Governments, and Non-Profit Organizations.

2. Sub-contracts. Sub-contracts must be awarded in accordance with 29 CFR 95.40-48. In compliance with Executive Orders 12876 as amended, 13230, 12928 and 13021 as amended, the Grantee is strongly encouraged to provide sub-contracting opportunities to Historically Black Colleges and Universities, Hispanic-Serving Institutions and Tribal Colleges and Universities.

3. Key Personnel. The applicant shall list individual(s) who has (have) been designated as having primary responsibility for the conduct and completion of all project work. The applicant will submit written proof that key personnel will be available to begin work on the project no later than three weeks after award. The Grantee agrees to inform the GOTR whenever it appears impossible for these individual(s) to continue work on the project as planned. The Grantee may nominate substitute personnel and submit the nominations to the GOTR; however, the Grantee must obtain prior approval from the Grant Officer for all key personnel. If the Grant Officer is unable to approve the personnel change, he/she reserves the right to terminate the cooperative agreement.

4. Encumbrance of Cooperative Agreement Funds. Cooperative agreement funds may not be encumbered/obligated by the Grantee before or after the cooperative agreement period of performance. Encumbrances/obligations outstanding as of the end of the cooperative agreement period may be liquidated (paid out) after the end of the cooperative agreement period. Such encumbrances/obligations shall involve only specified commitments for which a need existed during the grant period and which are supported by approved contracts, purchase orders, requisitions, invoices, bills, or other evidence of liability consistent with the Grantee's purchasing procedures and incurred within the cooperative agreement period. All encumbrances/obligations incurred during the cooperative agreement period shall be liquidated within 90 days after the end of the grant period, if practicable.

5. Site Visits. USDOL, through its authorized representatives, has the right, at all reasonable times, to make site visits to review project accomplishments and management control systems and to provide such technical assistance as may be required. If USDOL makes any site visit on the premises of the Grantee or a sub-contractor(s) under this grant(s), the Grantee shall provide and shall require its sub-contractors to provide all reasonable facilities and assistance for the safety and convenience of the Government representatives in the performance of their duties. All site visits and evaluations shall be performed in a manner that will not unduly delay the work.

V. Review and Selection of Applications for Award

A. The Review Process

USDOL will screen all applications to determine whether all required elements are present and clearly identifiable. Each complete application will be objectively rated by a technical panel against the criteria described in this announcement. Applicants are advised that the panel recommendations to the Grant Officer are advisory in nature. The Grant Officer may elect to select a Grantee on the basis of the initial proposal submission; or, the Grant Officer may establish a competitive or technically acceptable range for the purpose of selecting qualified applicants. If deemed appropriate, following the Grant Officer's call for the preparation and receipt of final revisions of proposals, the evaluation process described above will be repeated to consider such revisions. The Grant Officer will make final selection determination based on what is most advantageous to the Government, considering factors such as panel findings and the availability of funds. The Grant Officer's determination for award under this SGA is final.

Note: Selection of an organization as a cooperative agreement recipient does not constitute approval of the cooperative agreement application as submitted. Before the actual cooperative agreement is awarded, USDOL may enter into negotiations about such items as program components, funding levels, and administrative systems. If the negotiations do not result in an acceptable submission, the Grant Officer reserves the right to terminate the negotiation and decline to fund the proposal.

B. Rating Criteria and Selection

The technical panel will review applications against the various criteria on the basis of 100 points with an additional 5 points available for non-federal or leveraged resources.

The factors are presented in the order of emphasis that they will receive.

1. Approach, Understanding of the Issue, and Budget Plan (40 points).

a. Overview. This section of the proposal must explain:

(1) The applicant's proposed innovative methods for performing all the specific areas of work requirements presented in this solicitation.

(2) The expected outcomes over the period of performance for each of the tasks; and

(3) The approach for producing the expected outcomes.

The applicant should describe in detail the proposed approach to comply with each requirement in Section IV.A of this solicitation, including all tasks and methods to be utilized to implement the project. Also, the applicant should explain the rationale for using this approach. In addition, this section of the proposal should demonstrate the applicant's thorough knowledge and understanding of the issues involved in providing education to children victims of trafficking or at risk of being trafficked; best-practice solutions to address their needs; and the implementing environment in Togo.

b. Implementation Plan. The applicant must submit an implementation plan, preferably with a visual such as a Gantt chart, for the project in Togo. The implementation plan should list the outcomes, objectives and activities during the life of the project, and scheduling of time and staff starting with the execution of the cooperative agreement and ending with the final report. In describing the implementation plan, the applicant should address the following points:

(1) Describe the use of existing or potential infrastructure and use of qualified personnel, including qualified nationals, to implement the project. The applicant should also include a project organizational chart, demonstrating management structure, key personnel positions, and indicating proposed links with Government, civil society leaders, educators, and other significant local actors.

(2) Develop a list of activities and explain how each relates to the overall development objective of reducing child trafficking and the effects of trafficking through education.

(3) Explain how appropriate awareness raising, training, and pedagogic materials will be developed.

(4) Demonstrate how the organization will strengthen national institutions and policies on education and combating child trafficking.

(5) Demonstrate how the organization would systematically report on project performance to measure the achievement of the project objective(s).

(6) Demonstrate how the organization would build national and local capacity to ensure that project efforts to reduce trafficking and the effects of trafficking through the provision of education are sustained after completion of the project.

c. Budget Plan. The applicant must develop a budget of up to US $2 million for the project. This section of the proposal should explain the costs for performing all of the requirements presented in this solicitation and for producing all required reports and other deliverables presented in this solicitation; costs must include labor, equipment, travel, and other related costs.

d. Management and Staff Loading Plan. This section must also include a management and staff loading plan. The management plan should include the following:

(1) A project organization chart and accompanying narrative which differentiates between elements of the applicant's staff and subcontractors or consultants who will be retained;

(2) A description of the functional relationship between elements of the project's organization; and

(3) The identity of the individual responsible for project management and the lines of authority between this individual and other elements of the project.

(4) A description of how the implementation plan will be integrated into and support the anti-trafficking projects being implemented under ILO/IPEC and World Bank sponsorship.

The staff loading plan should identify all key tasks and the person-days required to complete each task. Labor estimates for each task should be broken down by individuals assigned to the task, including subcontractors and consultants. All key tasks should be charted to show time required to perform them by months or weeks.

This section will be evaluated in accordance with applicable Federal laws and regulations. The budget must comply with Federal cost principles (which can be found in the applicable OMB Circulars) and with ILAB budget requirements contained in the application instructions in Section III of this solicitation.

2. Experience and Qualifications of the Organization (35 points).

The evaluation criteria in this category are as follows:

a. The organization applying for the award has international experience implementing basic, transitional, and vocational education programs that address issues of access, quality, and policy reform for disadvantaged children including working children and victims of trafficking.

b. The organization has a field presence in Togo, or in the region, or could rapidly establish an office in Togo that gives it the capability to work directly with government ministries, educators, civil society leaders, and other local organizations, e.g., community-based or faith-based groups; the organization can document that it has already established relations of this nature in the target country or can show that it has the capacity to readily establish such relations.

c. The organization has experience working with, or can show it has the ability to work with U.N. and multilateral donor organizations.

The proposal should include information about previous grants or contracts relevant to this solicitation including:

a. The organization for which the work was done;

b. A contact person in that organization with his or her current phone number;

c. The dollar value of the grant, contract, or cooperative agreement for the project;

d. The time frame and professional effort involved in the project;

e. A brief summary of the work performed; and

f. A brief summary of accomplishments.

This information on previous grants and contracts shall be provided in appendices and will not count in the 25-page maximum page requirement.

3. Experience and Qualifications of Key Personnel (25 points).

This section of the proposal must include sufficient information to judge the quality and competence of staff proposed to be assigned to the project to assure that they meet the required qualifications. Successful performance of the proposed work depends heavily on the qualifications of the individuals committed to the project. Accordingly, in its evaluation of the applicant's proposal, USDOL will place emphasis on the applicant's commitment of personnel qualified for the work involved in accomplishing the assigned tasks. Information provided on the experience and educational background of personnel should indicate the following:

a. The identity of key personnel assigned to the project. “Key personnel” are staff who are essential to the successful operation of the project and completion of the proposed work and, therefore, may not be replaced or have their hours reduced without the approval of the Grant Officer.

b. The educational background and experience of all staff to be assigned to the project.

c. The special capabilities of staff that demonstrate prior experience in organizing, managing and performing similar efforts.

d. The current employment status of staff and availability for this project. The applicant should also indicate whether the proposed work will be performed by persons currently employed or is dependent upon planned recruitment or subcontracting. Note that management and professional technical staff members comprising the applicant's proposed team should be individuals who have prior experience with organizations working in similar efforts, and are fully qualified to perform work specified in the Statement of Work. Where subcontractors or outside assistance are proposed, organizational control should be clearly delineated to ensure responsiveness to the needs of USDOL. Key personnel must sign letters of agreement to serve on the project, and indicate availability to commence work within three weeks of grant award.

The following information must be furnished:

a. The applicant should designate a Program Director (Key Personnel) to oversee the project and be responsible for implementation of the requirements of the cooperative agreement in all of the countries of eventual implementation. The Program Director must have a minimum of three years of professional experience in a leadership role in implementation of complex basic education programs in developing countries in areas such as education policy; improving educational quality and access; teacher training and materials development; educational assessment of disadvantaged students; development of community participation in the improvement of basic education; and monitoring and evaluation of basic education projects. Points will be given for candidates with additional years of experience. Preferred candidates will also have knowledge of child labor and trafficking issues, and experience in the development of transitional, formal, and vocational education of children removed from child labor and/or victims of child trafficking.

b. The applicant should designate an Education Specialist (Key Personnel) who will provide leadership in developing the technical aspects of this project in collaboration with the Project Director. This person must have at least three years experience in basic education projects in developing countries in areas including student assessment, teacher training, educational materials development, educational management, and educational monitoring and information systems. This person must have experience in working successfully with ministries of education, networks of educators, employers' organizations and trade union representatives or comparable entities. Additional experience with child labor, psychosocial counseling, the education of child victims of trafficking, and education monitoring and evaluation is an asset.

c. The applicant should specify other personnel proposed to carry out the requirements of this solicitation.

d. The applicant should include a description of the roles and responsibilities of all personnel proposed for this project and a resume for each professional person to be assigned to the program. Resumes should be attached in an appendix. At a minimum, each resume should include: the individual's current employment status and previous work experience, including position title, duties performed, dates in position, and employing organizations and educational background. Duties should be clearly defined in terms of role performed, e.g., manager, team leader, consultant, etc. Indicate whether the individual is currently employed by the applicant, and (if so) for how long.

4. Leverage of Funding (5 points).

The Department will give up to five (5) additional rating points to applications that include non-Federal resources that significantly expand the dollar amount, size and scope of the proposal. Of special interest is an organization's ability to provide income-generation and/or credit programs in support of families of target children, or for older children who complete education programs and are ready for self-employment. These programs will not be financed by the project, but can complement and enhance project objectives. The applicant may include any leveraging or co-funding anticipated. To be eligible for the additional points in the criterion, the applicant must list the source(s) of funds, the nature, and possible activities anticipated with these funds under this cooperative agreement and any partnerships, linkages or coordination of activities, cooperative funding, etc.

Signed at Washington, DC, this 12th day of April, 2002.
Lawrence J. Kuss,
Grant Officer.

Appendix A: SF 424—Application Form.

Appendix B: SF 424A—Budget Information Form.

Appendix C: Background Information on the Causes and Effects of Trafficking on Children.

Appendix D: Background Information on USDOL-Funded Projects to Address the Trafficking of Children.

Appendix E: Background Information on Education and Anti-Trafficking Programs in Togo.

Appendix F: Background Material available in hard copy (upon request).

BILLING CODE 4510-28-P

BILLING CODE 4510-28-C

Note: Use Column A to record funds requested for the initial period of performance (i.e. 12 months, 18 months, etc.); Column B to record changes to Column A (i.e. requests for additional funds or line item changes; and Column C to record the totals (A plus B)).

Instructions for Part II—Budget Information

Section A—Budget Summary by Categories

1. Personnel: Show salaries to be paid for project personnel which you are required to provide with W2 forms.

2. Fringe Benefits: Indicate the rate and amount of fringe benefits.

3. Travel: Indicate the amount requested for staff travel. Include funds to cover at least one trip to Washington, DC for project director or designee.

4. Equipment: Indicate the cost of non-expendable personal property that has a useful life of more than one year with a per unit cost of $5,000 or more. Also include a detailed description of equipment to be purchased including price information.

5. Supplies: Include the cost of consumable supplies and materials to be used during the project period.

6. Contractual: Show the amount to be used for (1) procurement contracts (except those which belong on other lines such as supplies and equipment); and (2) sub-contracts/grants.

7. Other: Indicate all direct costs not clearly covered by lines 1 through 6 above, including consultants.

8. Total, Direct Costs: Add lines 1 through 7.

9. Indirect Costs: Indicate the rate and amount of indirect costs. Please include a copy of your negotiated Indirect Cost Agreement.

10. Training /Stipend Cost: (If allowable)

11. Total Federal Funds Requested: Show total of lines 8 through 10.

Section B—Cost Sharing/Matching Summary

Indicate the actual rate and amount of cost sharing/matching when there is a cost sharing/matching requirement. Also include percentage of total project cost and indicate source of cost sharing/matching funds, i.e. other Federal source or other Non-Federal source.

Note: Please include a detailed cost analysis of each line item.

Appendix C: The Causes and Effects of Trafficking on Children

Child trafficking is considered one of the worst forms of child labor under ILO Convention 182 on the Worst Forms of Child Labor to which the United States, Togo and many other countries are signatories. ILO Convention 182 categorizes child trafficking as belonging to the same category as forced labor. Specifically, Convention 182 identifies four categories of the worst forms of child labor, and calls for their immediate elimination:

• All forms of slavery or practices similar to slavery, such as the sale and trafficking of children; debt bondage and serfdom and forced or compulsory labor; including force or compulsory recruitment of children for use in armed conflict;

• The use, procurement or offering of a child for prostitution, production of pornography or pornographic performances;

• The use, procurement or offering of a child for illicit activities in particular for the production and trafficking of drugs as defined in the relevant international treaties;

• Work which by its nature or by the circumstances by which it is carried out, is likely to harm the health, safety, or morals of children.

Children who are trafficked often engage in one or more of the above-mentioned categories of the worst forms of child labor.

As noted by the ILO in a recent report, Trafficking of Children: The Problem and Responses Worldwide, (available electronically at http://www.ilo.org/public/english/standards/ipec/publ/childtraf/trafficking.pdf), child trafficking can occur within national boundaries, but can also cross borders and regions. “The victims, mostly separated from their families and communities end up in prostitution and other exploitative forms of work, such as agriculture, mining, manufacturing, fishing, begging and domestic service. They are defenceless against abuse and exploitation and traumatized”' (ILO, Trafficking of Children, p. iii).

It is estimated that millions of children in many countries are trafficked, but the exact number of victims is unknown. Often the children who are victims of trafficking come from impoverished or rural areas/countries and go to urban areas of the same country, or to wealthier countries. Trafficking involves a series of actions and actors (including recruiters, intermediaries, transporters, employers, and family members) at different points, from point of origin to final destination. The final outcome is the exploitation through work of the child being relocated, and a serious compromise of the child's access to education and other aspects of healthy human development. The exploitation is manifested through the abusive conditions to which the child is subjected, including physical and mental abuse, confinement, inadequate or non-existent health care, poor accommodation, and hazardous work.

Trafficking is a complex issue involving a series of motivations and aspirations that are both benevolent and malevolent. Children and their families can be drawn into trafficking through persuasion and/or deception. They are led to believe that a child will be better off because he/she will receive an education or job skills, earn money, and be cared for by adults with more means than their parents. In many such cases, children or their families approach the recruiters, who take advantage of parents' hopes and aspirations for their own personal gain. In other cases, children are trafficked as a result of deception, threat or coercion.

As noted in the ILO report on trafficking cited above, among factors that encourage trafficking are poverty; the desire to earn a living and help support family; low level of education of parents; scarcity of schools; political conflict and natural disasters that devastate local economies; cultural attitudes toward children, and girls in particular; and inadequate local laws and regulations or lack of enforcement. The consequences of child trafficking include death or permanent damage to physical and mental health; drug dependency; family disintegration; the risk of violence, physical and emotional damage due to premature sexual activity, and exposure to HIV/AIDS and other sexually transmitted diseases (STDs). In the case of girls there is also the risk of pregnancy, early motherhood, and reproductive illnesses that might affect future reproductive ability.

Appendix D: Background Information on USDOL-funded Projects to Address the Trafficking of Children (through the International Labor Organization's International Program on the Elimination of Child Labor (ILO/IPEC))

Ongoing Projects

Africa

Combating the Trafficking in Children for Labor Exploitation in West and Central Africa—Phase Two (Benin, Burkina Faso, Cameroon, Gabon, Ghana, Cote d''Ivoire, Mali, Nigeria, & Togo)

Description: The project aims to assist government agencies and nongovernmental organizations in effectively preventing and abolishing child trafficking for the purpose of domestic work, work on plantations, street trading, begging and prostitution. Support will be extended to partner organizations to rescue and rehabilitate 9,000 child victims. The project will address the problem on both national and regional levels through awareness raising campaigns; mobilization, capacity building, and coordination of social partners and key actors; provision of multi-disciplinary preventive and rehabilitative programs for child victims, children at risk of trafficking and their parents; development of multilateral and bilateral agreements to prevent trafficking; and the organization of sub-regional meetings to review regulations and enforcement practice of trafficking in children.

Status: The three-year project began in July 2001, and USDOL's contribution to ILO/IPEC is $4,279,154.

Latin America and the Caribbean

Brazil and Paraguay—Prevention and Elimination of Commercial Sexual Exploitation of Children and Adolescents

Description: This project aims to eliminate the commercial sexual exploitation of children and adolescents in border areas between Paraguay and Brazil. Action will be taken to rescue and rehabilitate 1,000 children that have been sexually exploited, and offer 400 families credit support to further income generation. Relevant public, private, governmental and nongovernmental institutions will be strengthened to implement efforts to eliminate the commercial sexual exploitation of children, and to make available reliable and credible information related to the commercial sexual exploitation of children, including possible child trafficking networks.

Status: The three-year project began in August 2001, and USDOL's contribution to ILO/IPEC is $1,995,464.

South Asia

South Asia Sub-regional Program to Combat the Trafficking of Children for Exploitative Employment (Bangladesh, Nepal and Sri Lanka)

Description: The project addresses the problem of trafficking in children for purposes of domestic work, work on plantations, work on construction sites, sex tourism, pornography, and prostitution, both on the national and sub-regional levels. Some 1,700 children will be rescued from exploitive work situations and will receive rehabilitation services. An additional 6,000 children will be prevented from being trafficked. The project will enhance the capacity of government and nongovernmental organizations to address trafficking issues, and will support sub-regional cooperation and joint action among the South Asia Association for Regional Cooperation (SAARC) countries.

Status: The two-year project began in June 2000, and USDOL's contribution to ILO/IPEC is $1,789,426.

Timebound Program in Nepal

Description: The Timebound Program in Nepal will comprise a set of comprehensive and integrated initiatives that will show visible results in the elimination of the worst forms of child labor in the country in a specific time period. Child victims of trafficking for labor or sexual exploitation has been identified as one of six worst forms of child labor in Nepal to receive priority attention. It is estimated that some 2,000 children will benefit directly from this component of the project. Children will receive trauma counseling before reintegration into school or vocational training.

Status: USDOL contribution to the entire ILO/IPEC project is $5.5 million (child trafficking component is $1.5 million) for a four-year period. The project began in September 2001, and the trafficking component of the project will commence in July 2002.

Projects Completed in Recent Years

Africa

Combating the Trafficking in Children for Labor Exploitation in West and Central Africa—Phase One (Benin, Burkina Faso, Cameroon, Gabon, Ghana, Cote d Ivoire, Mali, Nigeria, & Togo)

Description: The first phase of this project produced a sub-regional report synthesizing studies on the nature and scope of child trafficking in the participating countries and developed strategies for national and concerted regional actions to address the problem. Efforts were made to channel identified children to NGO's already providing social protection and support services for victims of trafficking. The project began in 1999 and is now completed. USDOL's contribution to ILO/IPEC was $225,525.

South Asia

Setting National Strategies for the Elimination of Girls' Trafficking and Commercial Sexual Exploitation of Children in Nepal

Description: The project aimed to strengthen the role of the Ministry of Social Welfare in combating child trafficking and coordinating an action plan at the national level to combat child trafficking for commercial sexual exploitation. Some 120 children were removed from prostitution and provided rehabilitation services and educational opportunities. Public awareness campaigns on the trafficking of children were carried out in villages and carpet factories. The two-year project commenced in 1997 and is now complete. USDOL's contribution to ILO/IPEC was $190,323.

Appendix E: Background Information on Education and Anti-Trafficking Programs in Togo

Many government ministries and organizations are currently working to combat child labor and trafficking, as well as to provide educational services to youth. Although these efforts are significant in nature, they are being carried out on a relatively small scale and are mostly uncoordinated. This section summarizes some of the interventions most pertinent to a Child Labor Education Initiative project in Togo.

Government Ministries

Ministry of Education

The Togolese Ministry of Education has been working to expand educational access for all children, and bureaus of the ministry in both Lomé and Sokodé are making special efforts to support girls' education. With recent efforts to develop inter-ministerial cooperation, notably with the launching of the ILO/IPEC program, it has been involved in preliminary meetings to develop an action plan to combat child labor and trafficking. The regional Directorate of the Ministry of Education in Sokodé has also been developing a working relationship with the Ministry of Social Affairs on child trafficking. Following a presentation on child trafficking, there have been three follow up meetings with various government ministries and local leaders to discuss the causes of child labor. One of these meetings was devoted to establishing local committees to fight against child trafficking.

In addition to government schools, the Ministry of Education supports community-based schools (Ecoles d'Initiative Locale) by providing manuals and technical assistance for teacher training. In cooperation with the World Bank, the Ministry has implemented an Education Management and Support Project (PAGED), and also collaborates on education programs with several NGOs, including Aide et Action, Plan International, La Colombe, and CARE.

Ministry of Labor

The Togolese Ministry of Labor has recently begun actively working with ILO/IPEC to implement a policy to combat child labor, and has designated a special unit within the ministry to work with IPEC. Its efforts to combat child labor fall into three categories: (1) Awareness-Raising, (2) Action Programs with IPEC to get returned trafficking victims into school, and (3) Legislation to revise the Togolese Labor Code to bring it in line with international agreements.

In 1998/99, in collaboration with IPEC, the Ministry conducted a sample survey of 600 children to assess the extent of the child labor problem. The results pointed to the existence of child labor in a large number of sectors including: market porters, agriculture, domestic workers, gravel porters, artisan workshops, and fishing. The survey also found that trafficking of children within Togo eventually led to their trafficking outside the country. Using the results of this survey, a National Action Plan was developed in collaboration with IPEC and other ministries. The plan focuses on three groups of children: exploited and abused child workers, child victims of trafficking, and street children. Among the activities proposed are: creation of a database on traffickers; improvement of legislation on children; regional exchange of information on trafficking; improvement of cooperation between police, customs and immigration officers; improvement of educational opportunities for girls and street children; awareness raising campaigns; and the rehabilitation and reintegration of trafficked children.

Among its other responsibilities, the Ministry of Labor inspects workplaces and mediates conflicts that arise in apprenticeships. The office in Sokodé estimated that it resolves about 20 such conflicts per year, and that many more are resolved through the employers' unions, which employers of apprentices are required by law to join.

Ministry of Social Affairs

The Ministry of Social Affairs has been spearheading the fight against the exploitation of children, with very few available resources. Its activities include: An annual awareness raising campaign on trafficking; withdrawing children from exploitative situations (particularly trafficking); arranging for the repatriation of trafficking victims, including coordinating with local NGOs to receive them in transit houses; and arranging children's reintegration into family and enrollment in school or apprenticeships. The Ministry is working with CARE-Togo to implement the World Bank-financed Institutional Development Fund (IDF) project, which has established 15 village-based committees nationwide dedicated to preventing trafficking and following up with trafficked children who have been reintegrated.

The Sokodé regional office of the Ministry of Social Affairs has developed regional and prefectoral action plans to address the most pressing social needs in the area, but most of the plans have yet to be implemented due to lack of resources.

Ministry of Technical Education and Professional Training

The Ministry of Technical Education and Professional Training offers two vocational training options for older children: apprenticeships and technical institutes, of which there are 11 nationwide. The Ministry also has Regional Centers of Technical Education and Professional Training, where training is tailored to meet regional needs (e.g., night courses, HIV/AIDS education). Training at a technical institute lasts three years and is less expensive than apprenticeships. Students must be between 14 and 20 years of age at the time of enrollment, and must have completed at least two years of secondary school.

The Ministry has put forth regulations governing apprenticeships, including duration (between one and four years) and fees. There are reportedly many violations in the apprenticeship system whereby parents must pay a large amount in cash and kind to get their children accepted into an apprenticeship. It is reported that the children may not learn the required skill set in the legal time limit set for the apprenticeship, but may serve as unpaid laborers for many years. Violations of the apprenticeship system are investigated when formal complaints are filed.

Dual training, whereby children attend evening literacy courses while engaged in apprenticeships, is an option available to apprentices. This training is partially subsidized by the ministry.

International Donors

IPEC

The IPEC program in Togo began in March 2001 and is funded by France and the United States. The organization is undertaking efforts to remove children under age 14, particularly girls, from the worst forms of child labor, and to improve working conditions for children ages 15 and over. IPEC has worked with local chiefs to raise awareness of child labor and trafficking, and has subcontracted three initiatives: (1) Reinforcing the capacity of communities to combat child labor and trafficking. (This capacity building program is directly implemented by the Ministry of Social Affairs, with overall coordination by the Ministry of Labor); (2) combating child labor among market porters in Lomé with the Bureau International Catholique de l'Enfance—BICE; and (3) combating the exploitation of girls in domestic service in Lomé, with WAO-Afrique. These initiatives last between 12 and 24 months. Togo is also part of the USDOL-funded regional eight-country trafficking project, in which US $159,000 is designated for direct action programs in Togo. These funds are intended for awareness raising and other interventions to reach 200 target communities. In the first year 10 pilot communities will be identified in each region with future expansion anticipated in subsequent years.

UNICEF

UNICEF's interventions in Togo are threefold: (1) awareness-raising on the rights of women and children; (2) education programs, especially for girls aged 5-14 years and parents; and (3) strengthening of local capacity. UNICEF works with 500 villages in three zones of the Maritime region to formulate village action plans to address problems identified by the communities themselves. These programs include enrollment of children in school; income-generating activities; registration of births as a means to increase school enrollment and control trafficking; vaccination certificates, and training of caregivers at childcare centers. Where UNICEF has opened schools, it works to build the community's capacity to financially sustain the school after the end of the program, or until the government can take it over.

UNICEF works closely with several NGOs as well as with IPEC and the Ministry of Labor. It works with the World Bank at a regional level. Its five-year project budget is US $3 million, of which $1.7 million is available for programs, and the remaining $1.3 million for research. UNICEF does not finance the village action plans, but encourages villages to seek funding from other sources. UNICEF has also launched an early childhood development center to help give at-risk children an advantage in school.

The Ambassador's Special Self Help Fund

Among other small grants it provides to local organizations, the U.S. Ambassador's Special Self Help Fund is financing a study of the traditional practice of trokosi, in which some families in the Vo region give their daughters to voodoo priests in order to repay a spiritual or monetary debt, or to compensate for offences committed by a member of the family. These girls are bonded for life and do not have the opportunity to go to school. Exact numbers on how many girls are involved are lacking, but the study is expected to be complete in 2002.

Peace Corps

Peace Corps/Togo's Small Business Development project was begun in 1991, in collaboration with the Federation of Savings and Credit Unions in Togo (FUCEC). There are currently approximately 15 Peace Corps Volunteers who work in this sector, offering business training and consulting services to members of local credit unions. Many Volunteers work with women's groups, while others assist individuals. They help associations get officially registered, and in rural areas, focus on informal savings groups.

Peace Corps/Togo also has a Girls' Education and Empowerment Project (recently renamed Education and Development) that was started in 1999. The 30 Volunteers assigned to this project make efforts to enroll girls in school, to keep them there, and to help those who are out of school find work. This project includes a scholarship program that has been operating for seven years. Volunteers work in an advisory capacity with local NGOs that receive up to $1,500 each (with 10% for administrative costs) to administer scholarships, tutoring and mentoring programs. Each NGO works with about 40 girls.

The scholarship program has two funding sources: a US $7,000 memorial fund, and US $50,000 from the State Department's Education for Democracy Development Initiative (EDDI). In addition to project funds, Peace Corps/Togo has a Small Project Assistance (SPA) program that awards a maximum of $500 per project and emphasizes training projects.

World Bank

The World Bank has awarded a $306,000 grant from its Institutional Development Fund (IDF) to the Ministry of Social Affairs' Directorate for the Protection and Promotion of the Family and Children (DPPFE), which has in turn subcontracted the money to NGOs. The IDF Project's primary objectives are to strengthen DPPFE's institutional capacity and to develop partnerships between government and civil society through joint child protection initiatives.

The Bank has not undertaken any new program lending in Togo since 1998. It currently has five projects, only two of which are new: a $5 million health project and a $15 million HIV/AIDS project. Both are loans. The Bank's education project ended in June 2001, and there are no other projects in the pipeline.

As part of its education strategy in Togo, the Bank places emphasis on making communities directly responsible for schools. The teachers are hired and paid by the communities (with supplements from the Bank), and are supervised by inspectors from the Ministry of Education.

International NGOs

BICE-Togo

Bureau International Catholique de l'Enfance (BICE) has been working in Togo since 1996. Among its areas of focus are child porters in the market, and internal and external child trafficking. In the interest of preventing trafficking, BICE provides partial scholarships for children, and is currently supporting 467 children, 63% of whom are girls. It also holds two-hour tutoring sessions per week to maximize each child's chance of passing. Since 1997 BICE has been working in seven rural villages in Lac and Vo prefectures in an effort to address the problem at its roots. The organization works to return victims of trafficking to their place of origin and re-insert them in school, and then conducts awareness raising activities in these areas. Each community has an Education Support Committee made up of teachers, students in their fourth year of secondary school, and others. These students are trained by BICE over a period of years. In Lomé, BICE has conducted a series of awareness raising activities in the markets on child porters. The NGO has its own preschool in Lomé for children of market porters to prevent them from working. Among its funding sources are the European Union, Fonds Pélorin (a French department store), and the Oak Foundation.

BICE is also part of a Group for Exchange and Coordination among Education Actors, a group of 24 governmental and non-governmental entities that get together for monthly workshops on topics proposed by a rotating Secretariat. BICE works in partnership with IPEC.

CARE-International

CARE's most direct intervention in the area of child labor is through the Institutional Development Fund (IDF) Project, funded by the World Bank via the Ministry of Social Affairs' Directorate for the Protection and Promotion of the Family and Children (DPPFE), and implemented with six local partners. CARE's activities in this $306,000 project include technical support for the creation and training of local committees against child labor and trafficking, training and awareness raising to prevent child labor and trafficking, and pilot initiatives for child protection.

In 1998, CARE began a five-year, $622,000 initiative—the Programme for the Promotion of Educational and Employment Opportunities for Girls in Urban and Rural Areas in Togo (PEP)—funded by Comic Relief, UK, and implemented in conjunction with AHUEFA and La Colombe in Lomé and Vo District. After nine months of literacy and life skills training, PEP beneficiaries may choose to participate in a three-year non-formal education program (with the goal of reintegrating into the formal system), vocational training, or an income generating activity. A total of 653 girls and women currently benefit from the PEP Project.

The Social and Professional Protection for Young Domestic Workers (PROMAM) Project has been operating in Lomé since 2000. To date, PROMAM has worked with 247 domestic workers (ages 15 to 30) and their employers to strengthen the workers' professional capacities, improve their working conditions, and guard against the exploitation of child labor. PROMAM is in the process of creating a training center for girls.

All of CARE's projects set aside a small portion of the budget to fund income-generating activities in support of the projects' larger goals.

PLAN International

PLAN International works on the problem of child trafficking in the Central Region of Togo. In a village that is the source of many trafficked children, PLAN is working with a women's group to improve their ability to care for their children, and to increase their revenues through micro-finance. With support from the Government of Togo and the respective communities, PLAN assists with the construction of schools, including the purchase of materials and teachers' salaries. PLAN also works with community-based schools by providing teacher training, offering scholarships, and assisting in the development of teaching materials. In addition to supporting the formal school system, PLAN provides non-formal education for children who have never attended school, and offers workshops where they can learn various trades.

In the area of trafficking, PLAN uses mass media (radio and TV) to sensitize people to the issue. In 2002, PLAN intends to strengthen its transit center for child victims of trafficking, so that children can remain for more than two weeks before returning to their families. The center will also provide training for girls to assist in their reintegration. Among PLAN's partners are the Ministries of Social Affairs, Labor, Education, and Security, as well as WAO-Afrique and FUCEC (Federation of Savings and Credit Unions in Togo). PLAN has also helped to sensitize border police to the issue of child trafficking. By January 2002, PLAN is scheduled to complete a study on child trafficking, including its forms, causes and consequences. Funding for the study is being provided by Japan over a five-year period, with $50,000 for the study and accompanying activities for the first year.

Terre des Hommes

One of Terre des Hommes' primary areas of intervention in Togo focuses on child labor and exploitation, particularly trafficking. The Oasis Center was created in 1986-87 to assist lost children, but now targets children who have escaped from work, including trafficked children. The Center serves as a transit house, offering accommodation, care and basic education classes to approximately 50-60 children until they can be reunited with their families. The length of stay ranges from a few days to a few weeks.

Terre des Hommes works with the Ministry of Social Affairs, civil and military police, judges, local chiefs and social centers to reintegrate children into their home villages, and coordinates with UNICEF to repatriate children who have been trafficked from other countries to Togo. The NGO maintains a file on each child, including information on his/her age, type of work (and if paid), work location, age when placed, trafficking history and details of abuse. Each file also includes data on the child's parents (religion, tribe, language, education, etc.). An additional children's center, financed by the U.S. Embassy, is under construction.

Terre des Hommes is financed primarily by the Terre des Hommes Foundation in Switzerland, but also receive funds from private citizens, Swiss international aid, and other countries (e.g., various embassies, European Union). The organization is also striving to obtain local funding in order to develop a more sustainable model.

WAO-Afrique

WAO-Afrique has been working with child labor in Togo since 1991. The organization conducted a study in 1994 that revealed that 150,000-200,000 children work in Togo. In 1998, WAO-Afrique coordinated with the Ministry of Interior, PLAN International and border police to organize a meeting to raise awareness of child labor and exploitation. The meeting resulted in a formal definition of child trafficking, and a resolution to treat trafficking as a crime. In addition to its efforts in Togo, WAO-Afrique works on a regional level in West and Central Africa, and is currently collaborating with Radda Barnen (Save the Children-Sweden) to organize a regional conference next year. The NGO is also in the process of creating a regional observatoire (watchdog agency) to collect and maintain information for all countries in the West and Central African region.

WAO-Afrique runs a center in Lomé that serves as a gathering place for child laborers. Under the guidance of the NGO, seven to ten adolescents form an executive committee that works in Lomé neighborhoods to raise awareness on child labor and to provide support for children who work.

Another of WAO-Afrique's focus areas is micro-credit. The organization collaborates with FUCEC to run a micro-credit center for women that meets at the Evangelical Presbyterian Church of Togo in Lomé. WAO-Afrique and the church guarantee the loans, and FUCEC provides training that covers not only credit and business management, but also health and nutrition. Over 200 women benefit from this program.

ALISEI

ALISEI is an Italian NGO founded in 1998 that has a regional trafficking project based in Gabon that also covers Togo, Benin, and Nigeria. Of the $3 million project budget, $45,000 per year is allocated to Togo. The organization intends to undertake actions to prevent child trafficking, to reintegrate trafficked children into their home villages, to follow up with them, and to provide vocational training for older children. ALISEI is in the first phase of the 18-month project. It has trained personnel to conduct follow-up activities (in collaboration with the ILO), and has started activities to provide schooling and vocational training for trafficked children. The organization is currently negotiating with the European Union to start a small micro-credit program for those who complete the vocational training.

National NGOs

La Colombe

La Colombe works at the grassroots level in girls' education, child labor, internal trafficking, literacy promotion, vocational training, civic education and sexual harassment. The NGO has offices in Lomé and Vogan, and a girls' training center in Vogan (the origin of the majority of market porters). The training center in Vogan consists of a non-formal education center for girls and a vocational training center for older girls. Students at the vocational center are required to take literacy and cooking classes, and then can choose among a variety of options including tapestry, batik and hair braiding.

In 1997, the U.S. Embassy used Democracy and Human Rights Funds (DHRF) to finance a project with La Colombe aimed at sensitizing the public to women's rights. In 2000, the Ambassador's Special Self-Help Fund financed the construction of a latrine for a school in Vo Prefecture.

GF2D

Groupe de réflexion et d'action Femme, Démocratie et Développement (GF2D) is headed by a Magistrate of the Togolese Supreme Court. The NGO started with an association of women lawyers in 1992 and opened its first center in 1994. There are now four centers in the country, including one in Lomé, that offer training on legal issues (e.g., marriage, civil status, property rights, etc.) to women, children and some men, and then follow up with them. The center in Lomé receives approximately 30 clients per week and periodically handles issues related to trafficked children. With the exception of the program and center directors, the lawyers who work at the center are volunteers. There are also 300 paralegals who work in awareness raising throughout the country.

In addition to offering legal assistance, GF2D operates the Center for Research on and Training of Women (CRIFF). CRIFF maintains a library that area students can use when researching women's issues, and has the capacity to conduct research.

In collaboration with La Colombe and another NGO, AHUEFA, GF2D has developed the Assistance to Young Girls Program that will provide services including tutoring for students repeating a grade. This is a three-year pilot project with a total budget of 21,871,000 CFA francs (approximately US$30,000). The project has not yet begun due to lack of funds.

CIAF

The Inter-African Committee on Traditional Practices that Affect the Health of Women and Children-Central Region (CIAF) works in eight African countries and has been operating in Togo since 1986. The primary focus of the Sokodé-based organization is to reduce the incidence of female excision in the Central Region of Togo by raising awareness of the health risks. The NGO also works to keep girls in school in order to decrease the likelihood of excision and of early marriage, and to reduce the risk of being trafficked.

CIAF collaborates extensively with the Association for the Holistic Development of Women and Young Girls (ADIF). While CIAF focuses mainly on excision and girls' education, ADIF works with girls in school who lack resources, and raises awareness on trafficking, AIDS and the importance of education.

Appendix F: Background Material Available in Hard Copy (upon request)

1. Project Document for Combating the Trafficking in Children for Labor Exploitation in West and Central Africa (Phase I)

2. Project Document for Combating the Trafficking in Children for Labor Exploitation in West and Central Africa (Phase II)

3. The Trafficking of Children: The Problem and Responses Worldwide

[FR Doc. 02-9515 Filed 4-17-02; 8:45 am]

BILLING CODE 4510-28-P